COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be provided by nonprofit agency employing persons who are blind or have other severe disabilities, and deletes products from the Procurement List previously furnished by such agencies.

DATES: Effective Date: 12/20/2015.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION:

Addition

On 10/2/2015 (80 FR 59740-59741), the Committee for Purchase From People Who Are Blind or Severely Disabled published notice of proposed addition to the Procurement List.

After consideration of the material presented to it concerning capability of qualified nonprofit agency to furnish the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Janitorial Service

Service is Mandatory For: USDA Forest Service, Salmon/Cobalt Ranger District, Salmon-Challis National Forest, Salmon, ID

Mandatory Source(s) of Supply: Development Workshop, Inc., Idaho Falls, ID

Contracting Activity: Forest Service, Caribou-Targhee National Forest, Idaho Falls, ID

Deletions

On 10/9/2015 (80 FR 61178), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Product Name(s)—NSN(s): Skirt, Service, Coast Guard, Women's, Dress Blue

8410-01-452-3387—10 Junior Long

8410-01-452-3388—6 Misses Short

8410-01-452-3389—6 Women's Regular

8410-01-452-3390—10 Misses Short

8410-01-452-3391—6 Misses Regular

8410-01-452-3393—4 Misses Regular

8410-01-452-3394—8 Misses Regular

8410-01-452-3395—8 Misses Long

8410-01-452-3396—8 Women's Short

8410-01-452-3397—8 Women's Regular

8410-01-452-3398—10 Junior Regular

8410-01-452-3399—10 Women's Short

8410-01-452-3400—8 Misses Short

8410-01-452-3402—10 Misses Regular

8410-01-452-3404—10 Misses Long

8410-01-452-3653—12 Junior Long

8410-01-452-3654—12 Misses Short

8410-01-452-3655—20 Misses Regular

8410-01-452-3656—12 Misses Regular

8410-01-452-3657—12 Misses Long

8410-01-452-3658—10 Women's Long

8410-01-452-3659—12 Women's Long

8410-01-452-3660—10 Women's Regular

8410-01-452-3661—12 Junior Regular

8410-01-452-3662—12 Women's Short

8410-01-452-3663—14 Misses Short

8410-01-452-3664—14 Junior Short

8410-01-452-3665—14 Women's Short

8410-01-452-3666—14 Misses Long

8410-01-452-3667—14 Misses Regular

8410-01-452-3668—16 Junior Short

8410-01-452-3669—16 Junior Regular

8410-01-452-3670—16 Misses Long

8410-01-452-3671—14 Junior Long

8410-01-452-3672—14 Women's Regular

8410-01-452-3673—14 Junior Regular

8410-01-452-3674—18 Women's Regular

8410-01-452-3675—20 Women's Regular

8410-01-452-3676—22 Women's Regular

8410-01-452-3677—14 Women's Long

8410-01-452-3678—18 Misses Regular

8410-01-452-3679—16 Junior Long

8410-01-452-3680—18 Misses Short

8410-01-452-3681—16 Women's Regular

8410-01-452-3682—16 Misses Regular

Skirt, Dress, Coast Guard, Women's, Dress Blue

8410-01-452-6191—6 Women's Short

8410-01-452-6195—12 Women's Regular

8410-01-452-6197—16 Women's Long

Skirt, Air Force, Women's, Blue

8410-01-375-8495—4MR

8410-01-375-8496—6MR

8410-01-375-8497—6WR

8410-01-375-8498—8MR

8410-01-375-8499—8WR

8410-01-375-8500—10MR

8410-01-375-8501—10WR

8410-01-375-8502—12MR

8410-01-375-8503—12WR

8410-01-375-8504—14MR

8410-01-375-8505—14WR

8410-01-375-8506—16MR

8410-01-375-8507—16WR

8410-01-375-8508—18MR

8410-01-375-8509—18WR

8410-01-375-8510—20MR

8410-01-377-9345—6WL

8410-01-377-9442—16WL

8410-01-377-9464—4WR

8410-01-377-9487—6MS

8410-01-377-9491—6ML

8410-01-377-9500—14WS

8410-01-377-9536—12WL

8410-01-377-9581—10MS

8410-01-377-9598—10ML

8410-01-377-9642—10WL

8410-01-377-9719—16MS

8410-01-377-9747—12WS

8410-01-377-9812—14WL

8410-01-377-9899—12MS

8410-01-377-9906—12ML

8410-01-377-9934—8WL

8410-01-377-9938—8ML

8410-01-377-9943—18WL

8410-01-377-9953—6WS

8410-01-377-9964—2MS

8410-01-377-9968—2MR

8410-01-377-9981—4WS

8410-01-377-9982—8WS

8410-01-377-9998—10WS

8410-01-378-0012—4MS

8410-01-378-0020—14MS

8410-01-378-0067—6ML

Skirt, Commissioned and Enlisted, Air Force, Women's, Blue

8410-01-377-9383—16ML

8410-01-377-9399—8MS

8410-01-377-9416—16WS

8410-01-377-9422—8ML

Mandatory Source of Supply: VGS, Inc., Cleveland, OH

Contracting Activity: Defense Logistics Agency Troop Support, Philadelphia, PA

Patricia Briscoe,
Deputy Director, Business Operations, (Pricing and Information Management).

[FR Doc. 2015-29654 Filed 11-19-15; 8:45 am]

BILLING CODE 6353-01-P